DEPARTMENT OF COMMERCE

National Institute of Standards and Technology

Public Meeting on U.S. Technical Participation in 11th Quadrennial Conference of the International Organization of Legal Metrology (OIML)

AGENCY: National Institute of Standards and Technology, Commerce.

ACTION: Meeting Announcement.

SUMMARY: The National Institute of Standards and Technology (NIST) will hold a public meeting to discuss U.S. technical participation in the 11th Quadrennial Conference of the International Organization of Legal Metrology (OIML). The pre-conference public meeting is open to all interested parties.

The principal focus will be on 15 OIML Recommendations on legal measuring instruments that will be presented for ratification by the Conference. These Recommendations and OIML-member nations' technical comments on them will be reviewed with interested parties who will be given an opportunity to present their views on the Recommendations and other relevant issues of the Conference.

Participants with an expressed interest in particular topics may obtain copies of the OIML Conference technical agenda, including copies of the Recommendations to be ratified. Interested parties should schedule oral presentations for the pre-conference meeting, providing a written summary of comments, no later than 22 September 2000 with the NIST Technical Standards Activities Program. Written comments are welcome at any time.

DATES: Pre-conference meeting at the National Institute of Standards and Technology: 26 September 2000 from 10:00 a.m. to 12:00 noon; Eleventh OIML International Conference of Legal Metrology in London, England: 9-13 October 2000.

ADDRESSES: Pre-conference meeting: National Institute of Standards and Technology (NIST North), Conference Room 152, 80 West Diamond Avenue, Gaithersburg, MD; International Conference: Queen Elizabeth II Conference Centre, London, England.

FOR FURTHER INFORMATION CONTACT: Mr. Ralph Richter, Technical Standards Activities Program, Office of Standards Services, National Institute of Standards and Technology, Gaithersburg, MD 2099-2150; telephone: 301/975-4025; fax: 301/975-5414; e-mail: ralph.richter@nist.gov; web site: www.ts.nist.gov/tsap and www.oiml.org

SUPPLEMENTARY INFORMATION: The International Organization of Legal Metrology (OIML) is an intergovernmental treaty organization in which the United States and 56 other nations participate. Its principal purpose is to harmonize national laws and regulations pertaining to testing and verifying the performance of legal measuring instruments used for equity in commerce, for public and worker health and safety, and for monitoring and protecting the environment. The harmonized results promote the international trade of measuring instruments and products affected by measurement.

Fifteen Recommendations will be presented for ratification by the Conference in the following two categories: (1) Those already approved by the International Committee of Legal Metrology (CIML) between 1997 and 1997; and (2) those that are expected to be submitted directly to the Conference for approval. These Recommendations and the OIML-member nations holding the responsible secretariat for their development are as follows:

Category 1

R49 Water meters intended for the metering of cold potable water (United Kingdom)

R60 Metrological regulation for load cells (USA)

R65 Force measuring system of uniaxial material testing machines (USA)

R81 Dynamic measuring devices and systems for cryogenic liquids (USA)

R85 Automatic level gauges for measuring the level of liquid in fixed storage tanks (Austria)

R93 Focimeters (Hungary)

R99 Instruments for measuring exhaust emissions (Netherlands)

R125 Measuring systems for the mass of liquids in tanks (Australia)

R126 Evidential breath analyzers (France)

R127 Radiochromic film dosimetry system for ionizing radiation processing of materials and products (USA)

R128 Ergometers for foot crank work (Germany)

R129 Multi-dimensional measuring instruments (Australia)

Category 2

—Draft OIML Recommendation: Octave-band and one-third octave-band filters (Germany)

—Draft OIML Recommendation: Polymethylmethacrylate dosimetry system for ionizing radiation processing of materials and products (USA)

—Draft OIML Recommendation: Alanine EPR dosimetry system for ionizing radiation processing of materials and products (USA)

August 16, 2000.
Karen Brown,
Deputy Director.

[FR Doc. 00-21622 Filed 8-23-00; 8:45 am]

BILLING CODE 3510-33-M